DEPARTMENT OF HEALTH AND HUMAN SERVICES

[Document Identifier: OS-0955-0019]

Agency Information Collection Request; 60-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before August 2, 2022.

ADDRESSES: Submit your comments to Sherrette.Funn@hhs.gov or by calling (202) 795-7714.

FOR FURTHER INFORMATION CONTACT: When submitting comments or requesting information, please include the document identifier 0990-New-60D and project title for reference, to Sherrette A. Funn, email: Sherrette.Funn@hhs.gov, or call (202) 795-7714 the Reports Clearance Officer.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: National Survey of Health Information Exchange Organizations (HIO).

Type of Collection: Reinstatement with Change.

OMB No.: 0955-0019.

Abstract: Electronic health information exchange (HIE) was one of three goals specified by Congress in the 2009 Health Information Technology for Economic and Clinical Health (HITECH) Act to ensure that the $30 billion federal investment in certified electronic health records (CEHRTs) resulted in higher-quality, lower-cost care. In subsequent rulemaking and regulations, ensuring that providers can share data electronically across EHRs and other health information systems has been a top priority.

Beginning prior to HITECH, there has been substantial ongoing assessment of trends in the capabilities of health information organizations to support clinical exchange. These surveys have collected data on organizational structure, financial viability, geographic coverage, scope of services, scope of participants, perceptions of information blocking, and participation in national networks and TEFCA. While past surveys assessed HIOs' capacity to support HIE in a variety of ways, they did not closely examine how HIOs support public health exchange. Each of these areas of data collection will be useful to constructing a current and more comprehensive picture of HIOs' role in addressing public health emergencies.

Given the evolving nature of the pandemic, assessing HIOs' current capabilities is critical as there are ongoing needs to share varied types of information that HIOs may be supporting. The survey will collect data from HIOs across the nation. These organizations facilitate electronic exchange of health information across disparate providers, labs, pharmacies, public health departments, and beyond. Little information exists on how HIOs can address information gaps related to public health. Thus, a first step to addressing these gaps, we need to better characterize existing capabilities of HIOs. The success of managing the current pandemic, and future public health emergencies, relies on the ability to efficiently share key data regarding health system capacity, contact tracing, testing, detecting new outbreaks, vaccine updates, and patient demographics to help address disparities in our response efforts.

In addition to measuring the capabilities to support public health, it is also necessary to understand the broader picture of HIO capabilities to support electronic health information exchange, their maturity and challenges they face. There are four key areas that require this broader assessment: (1) Adoption of technical standards; (2) perceptions related to information blocking; (3) HIE coordination at the federal level; and (4) organizational demographics, including technical capabilities offered by HIOs and the challenges they face in supporting electronic health information exchange.

The ultimate goal of our project is to administer a survey instrument to HIOs in order to generate the most current national statistics and associated actionable insights to inform policy efforts. The timely collection of national data from our survey will assess current capabilities to support effective electronic information sharing within our healthcare system related to COVID-19 and other public health relevant data.

This is a 3-year request for OMB approval.

Likely respondents: U.S. based public and private HIOs.

Annualized Burden Hour Table
Forms (if necessary) | Respondents (if necessary) | Number of respondents | Number of responses per respondents | Average burden per response | Total burden hours
HIO Survey | Health Information Organizations | 105 | 1 | 45/60 | 79
Total |  |  |  |  | 79

Sherrette A. Funn,
Paperwork Reduction Act Reports Clearance Officer, Office of the Secretary.

[FR Doc. 2022-11888 Filed 6-2-22; 8:45 am]

BILLING CODE 4150-45-P